FEDERAL COMMUNICATIONS COMMISSION

[CC Docket Nos. 96-262; 94-1; DA 01-2163]

Access Charge Reform, Price Cap Performance Review for Local Exchange Carriers

AGENCY: Federal Communications Commission.

ACTION: Notice.

SUMMARY: This document provides notice of the initiation of a cost review proceeding for residential and single-line business subscriber line charge (SLC) caps. Price cap local exchange carriers are directed to file, and parties may provide comment on, cost information so the Commission can determine the appropriate SLC cap.

DATES: Cost submissions due October 17, 2001.

Comments due November 14, 2001.

Reply comments due November 28, 2001.

FOR FURTHER INFORMATION CONTACT: Jennifer McKee, Common Carrier Bureau, Competitive Pricing Division, (202) 418-1530.

SUPPLEMENTARY INFORMATION: On May 31, 2000, the Commission released an order that adopted an integrated interstate access reform and universal service proposal put forth by the members of the Coalition for Affordable Local and Long Distance Service (CALLS). See Access Charge Reform, Price Cap Performance Review for Local Exchange Carriers, Low-Volume Long-Distance Users, Federal-State Joint Board on Universal Service, Sixth Report and Order in CC Docket Nos. 96-262 and 94-1, Report and Order in CC Docket No. 99-249, Eleventh Report and Order in CC Docket No. 96-45, 65 FR 38684, June 21, 2000 (CALLS Order). In that order, the Commission raised the cap for the primary residential and single-line business subscriber line charge (SLC) to $4.35 on July 1, 2000, and to $5.00 on July 1, 2001. Further scheduled increases were also set forth over the next two years, not to begin until the July 1, 2002 annual access tariff filings, and subject to the following Commission review in regard to the primary residential and single-line business SLC:

[W]e shall review any increases to residential and single-line business SLC caps above $5.00 to verify that any such increases are appropriate and reflect higher costs where they are to be applied. We will initiate and complete a cost review proceeding prior to any scheduled increases above this cap taking effect to determine the appropriate SLC cap. For this proceeding, the price cap [local exchange carriers (LECs)] have agreed to provide, and we will examine, forward-looking cost information associated with the provision of retail voice grade access to the public switched telephone network. We will address in that proceeding whether an increase in the SLC cap above $5.00 is warranted and, if not, whether a decrease in common line charges is warranted.

See CALLS Order, 65 FR 38684, June 21, 2000. We now initiate the proceeding described at paragraph 83 of the CALLS Order. We direct price cap LECs to submit the cost information described in that paragraph, and invite interested parties to comment on the cost submissions.

This proceeding shall be treated as a “permit-but-disclose” proceeding in accordance with the Commission's ex parte rules. See 47 CFR 1.1200 and 1.1206. Persons making oral ex parte presentations are reminded that memoranda summarizing the presentations must contain summaries of the substance of the presentations and not merely a listing of the subjects discussed. More than a one or two sentence description of the views and arguments presented is generally required. See 47 CFR 1.1206(b). Other rules pertaining to oral and written ex parte presentations in permit-but-disclose proceedings are set forth in section 1.1206(b) of the Commission's rules, 47 CFR 1.1206(b).

Price cap LECs shall file their cost information no later than October 17, 2001. Interested parties may file comments no later than November 14, 2001. Reply comments may be filed no later than November 28, 2001. When filing cost information and comments, please reference CC Docket Nos. 96-262 and 94-1.

An original and four copies of all cost information, comments and reply comments must be filed with the Office of the Secretary, Federal Communications Commission, 445 12th Street, SW., Room TW-A225, Washington, DC 20554. In addition, one copy of each submission must be filed with Qualex International, the Commission's duplicating contractor, at its office at Portals II, 445 12th Street, SW., Room CY-B402, Washington, DC 20554, and one copy with the Chief, Competitive Pricing Division, 445 12th Street, SW., Room 5-A225, Washington, DC 20554.

Federal Communications Commission.
Magalie Roman Salas,
Secretary.

[FR Doc. 01-23973 Filed 9-24-01; 8:45 am]

BILLING CODE 6712-01-P